DEPARTMENT OF HOMELAND SECURITY

U.S. Customs and Border Protection

[Docket No. USCBP-2024-0008]

Commercial Customs Operations Advisory Committee

AGENCY: U.S. Customs and Border Protection (CBP), Department of Homeland Security (DHS).

ACTION: Committee management; notice of open Federal advisory committee meeting.

SUMMARY: The Commercial Customs Operations Advisory Committee (COAC) will hold its quarterly meeting on Wednesday, June 26, 2024, in Long Beach, CA. The meeting will be open for the public to attend in person or via webinar. The in-person capacity is limited to 50 persons for public attendees.

DATES: The COAC will meet on Wednesday, June 26, 2024, from 1 p.m. to 5 p.m. Pacific daylight time (PDT). Please note that the meeting may close early if the committee has completed its business. Registration to attend in-person and comments must be submitted no later than June 21, 2024.

ADDRESSES: The meeting will be held at the Hilton Long Beach, 701 West Ocean Boulevard, Long Beach, CA 90831 in the Gallerie One room. For virtual participants, the webinar information will be posted by 5 p.m. EDT on June 25, 2024, at https://www.cbp.gov/trade/stakeholder-engagement/coac. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2024-0008. To submit a comment, click the “Comment” button located on the top left-hand side of the docket page.

• Email: tradeevents@cbp.dhs.gov. Include Docket Number USCBP-2024-0008 in the subject line of the message.

Comments must be submitted in writing no later than June 21, 2024, and must be identified by Docket No. USCBP-2024-0008. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, title 5 U.S.C., ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants who plan to participate in person must register using the method indicated below.

For members of the public who plan to participate in person, please register online at https://cbptradeevents.certain.com/profile/16835 by 5 p.m. EDT on June 21, 2024. For members of the public who are pre-registered to attend the meeting in person and later need to cancel, please do so by 5 p.m. EDT on June 21, 2024, utilizing the following link: https://cbptradeevents.certain.com/profile/16835.

For members of the public who plan to participate via webinar, the webinar information will be posted by 5 p.m. EDT on June 25, 2024, at https://www.cbp.gov/trade/stakeholder-engagement/coac. Registration is not required to participate virtually.

The COAC is committed to ensuring that all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be a public comment period after each subcommittee update during the meeting on June 26, 2024. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Intelligent Enforcement Subcommittee will provide updates on the work completed and topics discussed in its working groups as well as present proposed recommendations for the COAC's consideration. The Antidumping/Countervailing Duty (AD/CVD) Working Group will provide updates regarding its work and discussions on importer compliance with AD/CVD requirements. The Intellectual Property Rights (IPR) Process Modernization Working Group anticipates providing proposed recommendations for the committee's consideration regarding the Trade Seminars Mailbox and enhancements to the CBP Petitions Portal specific to IPR enforcement. The Forced Labor Working Group (FLWG) will provide updates regarding its updated Statement of Work that aims to enhance focus on technology best practices, stakeholder training and guidance, increased transparency on the Uyghur Forced Labor Prevention Act (UFLPA) applicability reviews, and enforcement of cotton imports under the UFLPA. Additionally, the FLWG will continue to monitor progress of the implementation of prior recommendations made by the COAC.

2. The Next Generation Facilitation Subcommittee will provide updates on all its existing working groups. The Broker Modernization Working Group (BMWG) plans to present proposed recommendations which aim to improve the end user experience and re-envision the Customs Broker Licensing Exam (CBLE). The Modernized Entry Processes Working Group (MEPWG) will report on the work done in the area of Cyber Incident Guidance for Brokers. The remaining working groups, the Automated Commercial Environment (ACE) 2.0 Working Group, the Passenger Air Operations Working Group, and the Customs Interagency Industry Working Group (CIIWG), were not active this past quarter but will provide a report on topics that each working group will focus on in the coming quarter.

3. The Secure Trade Lanes Subcommittee will provide updates on its seven active working groups: the Centers Working Group, the Cross-Border Recognition Working Group, the De Minimis Working Group, the Export Modernization Working Group, the FTZ/Warehouse Working Group, the Pipeline Working Group, and the Trade Partnership and Engagement Working Group. The Centers Working Group has continued to have robust discussions around the interactions between the Centers of Excellence and Expertise (Centers) and the trade community, including opportunities for improved communications and for providing the trade community with a better understanding of the Centers' internal organization. The Cross-Border Recognition Working Group has continued to discuss best practices at ports of entry on the southern border that facilitate legitimate trade. The De Minimis Working Group has continued discussions on the revised timeframe for submitting Type 86 entries and on potential compliance measurements for de minimis shipments that CBP can communicate to the trade community. The Export Modernization Working Group has continued its work on the Electronic Export Manifest Pilot Program. The Export Modernization Working Group is specifically focused on the effects of progressive filing by the shipper to continuously update export information on successive dates, rather than on a specific date. The Drawback Task Force under the Export Modernization Working Group has continued discussions around recommendations from last quarter, conducting an analysis of program statistics and examining areas to maximize resources. The FTZ/Warehouse Working Group continues to review previous recommendations along with 19 CFR part 146 and anticipates presenting proposed recommendations at the June public meeting. The Pipeline Working Group has continued discussing the most appropriate commodities and potential users of Distributed Ledger Technology to engage once the pilot for tracking pipeline-borne goods deploys. The Trade Partnership and Engagement Working Group has continued its work on the elements of the Customs Trade Partnership Against Terrorism (CTPAT) security program and the validation process.

4. The Rapid Response Subcommittee was inactive this quarter. It will not provide any status updates.

Meeting materials will be available on June 17, 2024, at: http://www.cbp.gov/trade/stakeholder-engagement/coac/coac-public-meetings.

Felicia M. Pullam,
Executive Director, Office of Trade Relations.

[FR Doc. 2024-12598 Filed 6-7-24; 8:45 am]

BILLING CODE 9111-14-P